DEPARTMENT OF THE INTERIOR

National Park Service

Notice of Inventory Completion: Anchorage Museum at Rasmuson Center, Anchorage, AK

AGENCY: National Park Service, Interior.

ACTION: Notice.

Notice is here given in accordance with the Native American Graves Protection and Repatriation Act (NAGPRA), 25 U.S.C. 3003, of the completion of an inventory of human remains in the possession of the Anchorage Museum at Rasmuson Center, Anchorage, AK. The human remains were removed from near Point Hope and Point Barrow, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Anchorage Museum at Rasmuson Center professional staff. Consultations with representatives from the Village of Anaktuvuk Pass; Arctic Slope Regional Corporation; Atqasuk Village (Atkasook); Native Village of Barrow Inupiat Traditional Government; Kaktovik Village; Native Village of Nuiqsut; Native Village of Point Hope; Native Village of Point Lay; and Village of Wainwright have yet to occur.

On an unknown date, human remains representing a minimum of two individuals were removed from areas in or around Point Hope and Point Barrow, AK, by Colonel M.R. “Muktuk” Marston of Anchorage, AK. In 1955, Col. Marston donated the human remains to the Cook Inlet Historical Society. In 1968, the Cook Inlet Historical Society donated their collection to the Anchorage Museum at Rasmuson Center. In 2008, the ownership of the Cook Inlet Historical Society collection was transferred to the Municipality of Anchorage and placed into the custody of the Anchorage Museum Association, governing body of the Anchorage Museum at Rasmuson Center. No known individuals were identified. No associated funerary objects are present.

Col. Marston collected Native American human remains and objects over a 15 year period in northern Alaska. Based on the donor's history and general provenience of removal, the human remains are reasonably determined to be of Native American descent and closely related to the Inupiaq people. Specifically, the human remains are from an area traditionally used by the descendants of the Inupiaq that are members of the Village of Anaktuvuk Pass; Arctic Slope Regional Corporation; Atqasuk Village (Atkasook); Native Village of Barrow Inupiat Traditional Government; Kaktovik Village; Native Village of Nuiqsut; Native Village of Point Hope; Native Village of Point Lay; and Village of Wainwright.

Officials of the Anchorage Museum at Rasmuson Center have determined that, pursuant to 25 U.S.C. 3001 (9-10), the human remains described above represent the physical remains of two individuals of Native American ancestry. Officials of the Anchorage Museum at Rasmuson Center also have determined that, pursuant to 25 U.S.C. 3001 (2), there is a relationship of shared group identity that can be reasonably traced between the Native American human remains and Village of Anaktuvuk Pass; Arctic Slope Regional Corporation; Atqasuk Village (Atkasook); Native Village of Barrow Inupiat Traditional Government; Kaktovik Village; Native Village of Nuiqsut; Native Village of Point Hope; Native Village of Point Lay; and Village of Wainwright.

Representatives of any other Indian tribe that believes itself to be culturally affiliated with the human remains should contact Darian LaTocha, Collections Manager, Anchorage Museum at Rasmuson Center, 121 West 7th Avenue, Anchorage, AK 99501, telephone (907) 343-6197, before December 26, 2008. Repatriation of the human remains to the Village of Anaktuvuk Pass; Arctic Slope Regional Corporation; Atqasuk Village (Atkasook); Native Village of Barrow Inupiat Traditional Government; Kaktovik Village; Native Village of Nuiqsut; Native Village of Point Hope; Native Village of Point Lay; and Village of Wainwright may proceed after that date if no additional claimants come forward.

The Anchorage Museum at Rasmuson Center is responsible for notifying the Village of Anaktuvuk Pass; Arctic Slope Regional Corporation; Atqasuk Village (Atkasook); Native Village of Barrow Inupiat Traditional Government; Kaktovik Village; Native Village of Nuiqsut; Native Village of Point Hope; Native Village of Point Lay; and Village of Wainwright that this notice has been published.

Dated: October 23, 2008
Sherry Hutt,
Manager, National NAGPRA Program.

[FR Doc. E8-28003 Filed 11-24-08; 8:45 am]

BILLING CODE 4312-50-S